DEPARTMENT OF TRANSPORTATION

Federal Aviation Administration

Notice of Intent to Rule on Application 05-03-I-00-GRR to Impose a Passenger Facility Charge (PFC) at Gerald R. Ford International Airport, Grand Rapids, MI.

AGENCY: Federal Aviation Administration (FAA), DOT.

ACTION: Notice of intent to rule on application.

SUMMARY: The FAA proposes to rule and invites public comment on the application to impose a PFC at Gerald R. Ford International Airport under the provisions of the 49 U.S.C. 40117 and part 158 of the Federal Aviation Regulations (14 CFR part 185).

DATES: Comments must be received on or before July 25, 2005.

ADDRESSES: Comments on this application may be mailed or delivered in triplicate to the FAA at the following address: Detroit Airports District Office, 11677 South Wayne Road, Suite 107, Romulus, MI 48174.

In addition, one copy of any comments submitted to the FAA must be mailed or delivered to Mr. James A. Koslosky of the Kent County Department of Aeronautics at the following address: 5500 44th Street SE., Grand Rapids, MI 49512.

Air carriers and foreign air carriers may submit copies of written comments previously provided to the Kent County Department of Aeronautics under section 158.23 of part 158.

FOR FURTHER INFORMATION CONTACT: Mr. Jason Watt, Program Manager, Detroit Airports District Office, 11677 South Wayne Road, Suite 107, Romulus, Michigan 48174, (734) 229-2906. The application may be reviewed in person at this same location.

SUPPLEMENTARY INFORMATION: The FAA proposes to rule and invites public comment on the application to impose a PFC at Gerald R. Ford International Airport under the provisions of the 49 U.S.C. 40117 and part 158 of the Federal Aviation Regulations (14 CFR part 158).

On June 10, 2005, the FAA determined that the application to impose a PFC submitted by the Kent County Department of Aeronautics was substantially complete within the requirements of § 158.25 of part 158. The FAA will approve or disapprove the application, in whole or in part, no later than August 26, 2005.

The following is a brief overview of the application.

Proposed charge effective date: July 1, 2019.

Proposed charge expiration date: May 1, 2021.

Level of the proposed PFC: $4.50.

Total estimated PFC revenue: $13,100,000.

Brief description of proposed projects: Terminal B Concourse Expansion, Terminal A Concourse Expansion, and Baggage Claim Expansion.

Classes or classes of air carries, which the public agency has requested, not be required to collect PFCs: Nonscheduled/on-demand carriers filing FAA form 1800-31.

Any person may inspect the application in person at the FAA office listed above under FOR FURTHER INFORMATION CONTACT.

In addition, any person may, upon request, inspect the application, notice and other documents germane to the application in person at the Kent County Department of Aeronautics.

Issued in Des Plaines, Illinois on June 20, 2005.
Elliott Black,
Manager, Planning and Programming Branch, Airports Division, Great Lakes Region.

[FR Doc. 05-12557 Filed 6-23-05; 8:45 am]

BILLING CODE 4910-13-M